DEPARTMENT OF LABOR

Bureau of Labor Statistics

Information Collection Activities, Comment Request

AGENCY: Bureau of Labor Statistics, Department of Labor.

ACTION: Notice of information collection, request for comment.

SUMMARY: The Department of Labor, as part of its continuing effort to reduce paperwork and respondent burden, conducts a pre-clearance consultation program to provide the general public and Federal agencies with an opportunity to comment on proposed and/or continuing collections of information in accordance with the Paperwork Reduction Act of 1995. This program helps to ensure that requested data can be provided in the desired format, reporting burden (time and financial resources) is minimized, collection instruments are clearly understood, and the impact of collection requirements on respondents can be properly assessed. The Bureau of Labor Statistics (BLS) is soliciting comments concerning the proposed revision of the “The Consumer Expenditure Surveys: The Quarterly Interview and the Diary.” A copy of the proposed information collection request can be obtained by contacting the individual listed below in the ADDRESSES section of this notice.

DATES: Written comments must be submitted to the office listed in the Addresses section of this notice on or before April 12, 2021.

ADDRESSES: Send comments to Nora Kincaid, BLS Clearance Officer, Division of Management Systems, Bureau of Labor Statistics, Room 4080, 2 Massachusetts Avenue NE, Washington, DC 20212. Written comments also may be transmitted by email to BLS_PRA_Public@bls.gov.

FOR FURTHER INFORMATION CONTACT: Nora Kincaid, BLS Clearance Officer, at 202-691-7628 (this is not a toll free number). (See ADDRESSES section.)

SUPPLEMENTARY INFORMATION:

I. Background

The Consumer Expenditure (CE) Surveys collect data on consumer expenditures, demographic information, and related data needed by the Consumer Price Index (CPI) and other public and private data users. The continuing surveys provide a constant measurement of changes in consumer expenditure patterns for economic analysis and to obtain data for future CPI revisions. The CE Surveys have been ongoing since 1979.

The data from the CE Surveys are used (1) for CPI revisions, (2) to provide a continuous flow of data on income and expenditure patterns for use in economic analysis and policy formulation, and (3) to provide a flexible consumer survey vehicle that is available for use by other Federal government agencies. Public and private users of price statistics, including Congress and the economic policymaking agencies of the Executive branch, rely on data collected in the CPI in their day-to-day activities. Hence, data users and policymakers widely accept the need to improve the process used for revising the CPI. If the CE Surveys were not conducted on a continuing basis, current information necessary for more timely, as well as more accurate, updating of the CPI would not be available. In addition, data would not be available to respond to the continuing demand from the public and private sectors for current information on consumer spending.

In the Quarterly Interview Survey, each consumer unit (CU) in the sample is interviewed every three months over four calendar quarters. The sample for each quarter is divided into three panels, with CUs being interviewed every three months in the same panel of every quarter. The Quarterly Interview Survey is designed to collect data on the types of expenditures that respondents can be expected to recall for a period of three months or longer. In general the expenses reported in the Interview Survey are either relatively large, such as property, automobiles, or major appliances, or are expenses which occur on a fairly regular basis, such as rent, utility bills, or insurance premiums.

The Diary (or recordkeeping) Survey is completed at home by the respondent family for two consecutive one-week periods. The primary objective of the Diary Survey is to obtain expenditure data on small, frequently purchased items which normally are difficult to recall over longer periods of time.

II. Current Action

Office of Management and Budget approval is being sought for the proposed revision of the Consumer Expenditure Surveys: The Quarterly Interview (CEQ) and the Diary (CED).

The purpose of this request is to obtain clearance for modifications to the Consumer Expenditure (CE) Surveys and to test a self-administered Diary.

CE requests clearance to remove several point of purchase questions from the CEQ Computer Assisted Personal Interview (CAPI) instrument that are no longer needed by CPI and to add point of purchase questions for gasoline on trips including the name of the gas station or store and the location (city and state) where gasoline on a trip was purchased.

CE is also seeking clearance to add a `consent request' question to the CEQ. The consent request question will ask respondents for permission to record the interview for quality control purposes. This question will be added to test the impact of the consent request question on respondent behavior, as well as rates of consent, and overall interview duration. The question will be administered to half of the CUs in their fourth wave production interview between October and December 2021. Respondents in this test group will be asked the consent request question. However, no recordings of the interview will actually take place. The results of this Consent Request test will inform CE regarding plans to incorporate Computer Assisted Recording Instrument (CARI) technology into CE for quality control and research purposes.

CE is requesting clearance to test a self-administered Diary. In lieu of the production procedures for an in-person interview in which FRs place the diaries and train respondents on how to record the household's daily expenditures, the Self-Administered Diary test will entail Diary placement and collection of sample unit, demographics, income, and select expenditure data through the Household Screener survey. Additionally, instead of the CED paper Diary, respondents will use the Online Diary with slight modifications.

The purpose of the Self-Administered Diary test is to determine the sampling and measurement error by comparing the sample composition of those that complete an online diary to that of the BLS CE diary production sample to determine the differences in representativeness for various population subgroups. Additionally, response and cooperation rates, as well as deviations in data quality will be evaluated. The test will be administered from October through December of 2021.

As part of the self-administered Diary test, respondents will receive survey points redeemable for cash, merchandise, gift cards or game entries worth the equivalent of $2 cash for completing the Household Characteristics Survey and survey points redeemable for cash, merchandise, gift cards or game entries worth the equivalent of $50 cash for successfully completing each day of the fourteen-day diary period.

The Household Characteristics Survey and Consumer Expenditure Online Diary will be administered to a nationally representative sample of 2,000 persons (age 18 and older), with surveys conducted in English. Weighting the entire population to U.S. Census Bureau benchmarks secured from the latest American Community Survey (ACS) and the most recent March supplement of the Current Population Survey (CPS) along several dimensions including gender, age, race/Hispanic origin, education, Census Region, income, home ownership status, household size, and metropolitan area.

III. Desired Focus of Comments

The Bureau of Labor Statistics is particularly interested in comments that:

• Evaluate whether the proposed collection of information is necessary for the proper performance of the functions of the agency, including whether the information will have practical utility.

• Evaluate the accuracy of the agency's estimate of the burden of the proposed collection of information, including the validity of the methodology and assumptions used.

• Enhance the quality, utility, and clarity of the information to be collected.

• Minimize the burden of the collection of information on those who are to respond, including through the use of appropriate automated, electronic, mechanical, or other technological collection techniques or other forms of information technology, e.g., permitting electronic submissions of responses.

Activity | Total respondents | Frequency | Total responses | Average time per response (minutes) | Total burden (hours)
Quarterly | 4,925 | 4.48 | 22,064 | 60.89195 | 22,392
Diary | 9,366 | 3.93 | 36,816 | 42.77542 | 26,247
| 14,291 |  | 58,880 |  | 48,639

Title of Collection: The Consumer Expenditure Surveys: The Quarterly Interview and the Diary.

OMB Number: 1220-0050.

Type of Review: Revision, of a currently approved collection.

Affected Public: Individuals or Households.

Comments submitted in response to this notice will be summarized and/or included in the request for Office of Management and Budget approval of the information collection request; they also will become a matter of public record.

Signed at Washington, DC, this 5th day of February 2021.
Mark Staniorski,
Division Chief, Division of Management Systems.

[FR Doc. 2021-02808 Filed 2-10-21; 8:45 am]

BILLING CODE 4510-24-P